DEPARTMENT OF THE INTERIOR

National Park Service

Notice of Intent to Repatriate Cultural Items: Washington State University, Museum of Anthropology, Pullman, WA

AGENCY: National Park Service, Interior.

ACTION: Notice.

Notice is here given in accordance with the Native American Graves Protection and Repatriation Act (NAGPRA), 43 CFR 10.8 (f), of the intent to repatriate cultural items in the possession of the Washington State University, Museum of Anthropology, Pullman, WA, that meet the definition of unassociated funerary objects under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

In 1972, human remains representing a minimum of five individuals were removed from the Asotin cemetery site (45-AS-9), Asotin County, WA, during archeological excavations under the direction of Roderick Sprague of the University of Idaho. The human remains were reburied by the University of Idaho and the Nez Perce Tribe of Idaho shortly after they were excavated. Funerary objects found with the human remains were retained by Dr. Sprague until they were accessioned by the Washington State University, Museum of Anthropology in 1997 and 2000. The 168 unassociated funerary objects are 1 projectile point, 1 stone flake, 1 bear claw, 1 pestle in 2 pieces, 1 lot (0.2 g) of olivella shell bead fragments, 134 dentalia shell beads, 1 lot (2.5 g) of nonhuman bone fragments, 6 whole shell pendants, 11 shell pendant fragments, 1 antler fragment, 1 bone whistle, 1 lot (1.1 g) of bark fragments, 1 lot (324.1 g) of wood fragments, 5 pieces of polished nonhuman bone, 1 lot (18 g) of plant remains, and 1 lot (33.6 g) of matting fragments.

Burial patterns and artifacts found at the site indicate that the burials removed from the Asotin cemetery site originally were interred between A.D. 1000 and the mid-19th century. Oral tradition and historical evidence indicate that the cemetery was used by two Nez Perce bands that inhabited the villages of Hasotino and Hesweiwewipu. Descendants of these two bands are known to be members of the Confederated Tribes of the Colville Reservation, Washington and Nez Perce Tribe of Idaho. The Asotin cemetery site is located within the area reserved by the Nez Perce under the Treaty of 1855, but was deleted from tribal lands in the Treaty of 1863. The Indian Claims Commission determined that the area in which the Asotin cemetery site is located has been occupied exclusively by the Nez Perce at least since the mid-19th century.

Officials of the Washington State University, Museum of Anthropology have determined that, pursuant to 25 U.S.C. 3001 (3)(B), the 168 cultural items described above are reasonably believed to have been placed with or near individual human remains at the time of death or later as part of a death rite or ceremony and are believed, by a preponderance of the evidence, to have been removed from a specific burial site of a Native American individual. Officials of the Washington State University, Museum of Anthropology also have determined that, pursuant to 25 U.S.C. 3001 (2), there is a relationship of shared group identity that can be reasonably traced between the unassociated funerary objects and the Confederated Tribes of the Colville Reservation, Washington and Nez Perce Tribe of Idaho.

Representatives of any other Indian tribe that believes itself to be culturally affiliated with the unassociated funerary objects should contact Mary Collins, Associate Director, Museum of Anthropology, Washington State University, P.O. Box 62291, Pullman, WA 99164-4910, telephone (509) 335-4314, before January 9, 2004. Repatriation of the unassociated funerary objects to the Confederated Tribes of the Colville Reservation, Washington and Nez Perce Tribe of Idaho may proceed after that date if no additional claimants come forward.

The Washington State University, Museum of Anthropology is responsible for notifying the Confederated Tribes of the Colville Reservation, Washington and Nez Perce Tribe of Idaho that this notice has been published.

Dated: November 5, 2003.
John Robbins,
Assistant Director, Cultural Resources.

[FR Doc. 03-30565 Filed 12-9-03; 8:45 am]

BILLING CODE 4310-50-S